DEPARTMENT OF HEALTH AND HUMAN SERVICES

Administration for Children and Families

[OMB #0970-0215]

Submission for Office of Management and Budget Review; Tribal Temporary Assistance for Needy Families Data Report, Tribal Annual Report, and Tribal Reasonable Cause/Corrective Action Documentation Process

AGENCY: Office of Family Assistance, Administration for Children and Families, U.S. Department of Health and Human Services.

ACTION: Request for public comments.

SUMMARY: The Administration for Children and Families (ACF) is requesting a 3-year extension of the Tribal Temporary Assistance for Needy Families (TANF) Data Report, Tribal TANF Annual Report, and Tribal TANF Reasonable Cause/Corrective Action Documentation Process (Office of Management and Budget (OMB) #0970-0215, expiration June 30, 2025). There are minor changes requested to the form.

DATES: Comments due July 28, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: 42 U.S.C. 612 (Section 412 of the Social Security Act as amended by Public Law 104-193, the Personal Responsibility and Work Opportunity Reconciliation Act of 1996), mandates that federally recognized Indian tribes with an approved Tribal TANF program collect and submit to the Secretary of the U.S. Department of Health and Human Services data on the recipients served by the tribes' programs. This information includes both aggregated and disaggregated data on case characteristics and individual characteristics. In addition, tribes that are subject to a penalty are allowed to provide reasonable cause justifications as to why a penalty should not be imposed or may develop and implement corrective compliance procedures to eliminate the source of the penalty. Finally, there is an annual report that requires tribes to describe program characteristics. All the above requirements are currently approved by OMB, and ACF is proposing to continue this information collection with only changes to instructions to improve formatting, clarity, and consistency.

Respondents: Federally recognized Indian tribes and tribal organizations operating Tribal TANF programs.

Annual Burden Estimates: Note, the number of respondents has been updated to reflect an increase in the number of approved Tribal TANF programs; the annual burden hours have been adjusted accordingly.

Instrument | Total number of respondents | Total number of responses per respondent | Average burden hours per response | Annual burden hours
Tribal TANF Data Report | 77 | 4 | 451 | 138,908
Tribal TANF Annual Report | 77 | 1 | 40 | 3,080
Tribal TANF Reasonable Cause/Corrective Action Documentation Process | 10 | 1 | 60 | 600
Estimated Total Annual Burden Hours |  |  |  | 142,588

Authority: 42 U.S.C. 612, 45 CFR part 286.

Mary C. Jones,
ACF/OPRE Certifying Officer.

[FR Doc. 2025-11899 Filed 6-26-25; 8:45 am]

BILLING CODE 4184-36-P